FEDERAL COMMUNICATIONS COMMISSION

47 CFR Parts 2 and 25

[IB Docket No. 16-408; FCC 16-170]

Update Concerning Non-Geostationary, Fixed-Satellite Service System and Related Matters

AGENCY: Federal Communications Commission.

ACTION: Proposed rule; extension of comment period.

SUMMARY: The Federal Communications Commission finds that a limited extension in this proceeding would be beneficial to the development of a complete record on the issues, and it grants a fourteen-day extension for filing reply comments in response to the Commission's notice of proposed rulemaking (NPRM) concerning non-geostationary, fixed-satellite service systems and related matters.

DATES: The comment period for the proposed rule published January 11, 2017 (82 FR 3258) is extended. Reply comments may be filed on or before April 10, 2017.

ADDRESSES: You may submit reply comments, identified by IB Docket No. 16-408; FCC 16-170, by any of the following methods:

• Federal eRulemaking Portal: http://www.regulations.gov. Follow the instructions for submitting comments.

• Federal Communications Commission's Web site: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People with Disabilities: Contact the Commission to request reasonable accommodations (accessible format documents, sign language interpreters, CART, etc.) by email: fcc504@fcc.gov or phone: 202-418-0530 or TTY: 202-418-0432.

For detailed instructions for submitting comments and additional information on the rulemaking process, see the SUPPLEMENTARY INFORMATION section of this document.

FOR FURTHER INFORMATION CONTACT: Stephen Duall, Satellite Division, International Bureau, at 202-418-1103 or via email at Stephen.Duall@fcc.gov.

SUPPLEMENTARY INFORMATION: This is a summary of the Commission's document in IB Docket No. 16-408, DA 17-263, released on March 17, 2017. The full text of the document is available for public inspection and copying during business hours in the FCC Reference Information Center, Portals II, 445 12th Street SW., Room CY-A257, Washington, DC 20554. It also may be purchased from the Commission's duplicating contractor at Portals II, 445 12th Street SW., Room CY-B402, Washington, DC 20554. Additionally, the complete item is available on the Commission's Web site at http://www.fcc.gov.

In the document, the International Bureau, pursuant to delegated authority, extends the deadline for reply comments to be filed in response to a NPRM concerning potential changes to the U.S. Table of Frequency Allocations contained in part 2 of the Commission's rules and to part 25 of the Commission's rules governing satellite communications. Interested parties will now have until April 10, 2017 to file reply comments.

On March 13, 2017, Inmarsat, Inc., Intelsat Corporation, Iridium Satellite LLC, WorldVu Satellites Ltd. d/b/a OneWeb, SES Americom, Inc. and its subsidiary O3b Limited, Telesat Canada, and The Boeing Company (collectively, “Satellite Companies”) filed a joint motion to extend the deadline for filing reply comments in IB Docket No. 16-408 by 14 days. Reply comments were originally due to be filed no later than March 27, 2017.

As set forth in section 1.46(a) of the Commission's rules, “it is the policy of the Commission that extensions of time shall not be routinely granted.” However, in this case, we agree with the Satellite Companies that it is in the public interest to grant an extension to permit the parties to properly analyze the complex technical propositions raised by initial comments in the proceeding and to consider compromise approaches put forth on certain issues. It will also allow all interested to include their comments on the record at the reply comment deadline, as the Satellite Companies represents a large portion of part 25 entities affected by the proposed rules. This will ensure that Commission has a complete record and all parties can fully address the complicated issues raised in the public notice. A limited extension will not negatively affect existing operators or significantly delay Commission action on the proceeding.

This proceeding has been designated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to that data or arguments in his or her prior comments, memoranda, or other filings (specifying the relevant page and/or paragraph numbers where the data or arguments can be found) in lieu of summarizing them in the memorandum. Documents shown or given to Commission staff during ex parte meetings are deemed to be written ex parte presentations and must be filed consistent with § 1.1206(b) of the Commission's rules. In proceedings governed by § 1.49(f) or for which the Commission has made available a method of electronic filing, written ex parte presentations and memoranda summarizing oral ex parte presentations and all attachments to those documents must be filed through the electronic comment filing system available for that proceeding, and must be filed in their native format (e.g., .doc, .xml, .ppt, searchable .pdf). Participants in this proceeding should familiarize themselves with the Commission's ex parte rules.

Pursuant to sections 1.415 and 1.419 of the Commission's rules, 47 CFR 1.415, 1.419, interested parties may file reply comments on the NPRM on or before the date indicated on the first page of this document. All filings related to the NPRM should refer to IB Docket No. 16-408. Comments may be filed using: (1) The Commission's Electronic Comment Filing System (ECFS), (2) the Federal Government's eRulemaking Portal, or (3) by filing paper copies. See Electronic Filing of Documents in Rulemaking Proceedings, 63 FR 24121 (May 1, 1998).

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. The filing hours are 8:00 a.m. to 7:00 p.m. All hand deliveries must be held together with rubber bands or fasteners. Any envelopes and boxes must be disposed of before entering the building.

• Commercial overnight mail (other than U.S. Postal Service Express Mail and Priority Mail) must be sent to 9300 East Hampton Drive, Capitol Heights, MD 20743.

• U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau at 202-418-0530 (voice), 202-418-0432 (tty).

Federal Communications Commission.
Marlene Dortch,
Secretary.

[FR Doc. 2017-06483 Filed 4-5-17; 8:45 am]

BILLING CODE 6712-01-P